DEPARTMENT OF AGRICULTURE

Animal and Plant Health Inspection Service

[Docket No. APHIS-2014-0068]

Notice of Request for Extension of Approval of an Information Collection; Trichinae Certification Program

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the voluntary Trichinae Certification Program to enhance the ability of U.S. pork producers to export pork and pork products to overseas markets.

DATES: We will consider all comments that we receive on or before November 17, 2014.

ADDRESSES: You may submit comments by either of the following methods:

• Federal eRulemaking Portal: Go to http://www.regulations.gov/#!docketDetail;D=APHIS-2014-0068.

• Postal Mail/Commercial Delivery: Send your comment to Docket No. APHIS-2014-0068, Regulatory Analysis and Development, PPD, APHIS, Station 3A-03.8, 4700 River Road, Unit 118, Riverdale, MD 20737-1238.

Supporting documents and any comments we receive on this docket may be viewed at http://www.regulations.gov/#!docketDetail;D=APHIS-2014-0068 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the Trichinae Certification Program, contact Dr. Troy Bigelow, Senior Staff Veterinarian-Swine, Surveillance, Preparedness and Response Services, VS, APHIS, 210 Walnut Street, Room 891, Des Moines, IA 50309; (515) 284-4121. For copies of more detailed information on the information collection, contact Mrs. Celeste Sickles, APHIS' Information Collection Coordinator, at (301) 851-2908.

SUPPLEMENTARY INFORMATION: Title: Trichinae Certification Program.

OMB Control Number: 0579-0323.

Type of Request: Extension of approval of an information collection.

Abstract: Under the Animal Health Protection Act (7 U.S.C. 8301 et seq.), the Animal and Plant Health Inspection Service (APHIS) of the U.S. Department of Agriculture is authorized, among other things, to prohibit or restrict the importation and interstate movement of animals and animal products to prevent the introduction into and dissemination within the United States of livestock diseases and pests and to conduct programs to detect, control, and eradicate pests and diseases of livestock. In addition, under the Agricultural Marketing Act of 1946 (7 U.S.C. 1622), the APHIS Administrator has authority with respect to voluntary inspection and certification of animal products and the inspection, testing, treatment, and certification of animals.

APHIS regulations in 9 CFR part 149 contain certification requirements for the voluntary Trichinae Certification Program, which is a cooperative effort by APHIS and the U.S. pork industry. The program is intended to enhance the ability of swine producers, as well as slaughter facilities and other persons that handle or process swine from pork production sites that have been certified under the program, to export fresh pork and pork products to foreign markets.

There are a number of information collection activities for the voluntary Trichinae Certification Program, including notification to APHIS of program withdrawal, requests to APHIS for temporary program withdrawal, requests for review of audit results or other determinations, certification site audit form and requests for certification site audit, spot audits, animal disposal plans, animal movement records, rodent control logbook, feed mill quality assurance affidavits, slaughter test results, and recordkeeping.

Since the last approval of this collection, the estimated total annual burden on respondents has decreased from 7,492 hours to 2,118 hours, and the estimated annual number of responses has decreased from 14,189 to 3,793. These changes are due to several reasons. We discovered that we did not accurately estimate the number of herds that would be registered for the voluntary Trichinae Certification Program. Our estimates were created at the beginning of the program when it was assumed that the program would continue and grow; however, changes in trade practices have decreased participation in the program. In addition, we adjusted the hours per response for several of the information collection activities to more accurately reflect the time required to complete them.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.56 hours per response.

Respondents: Auditors (accredited veterinarians or State animal health officials), pork producers, mill managers, slaughter facility personnel, and personnel from approved laboratories.

Estimated annual number of respondents: 1,250.

Estimated annual number of responses per respondent: 3.03.

Estimated annual number of responses: 3,793.

Estimated total annual burden on respondents: 2,118 hours. (Due to averaging, the total annual burden hours may not equal the product of the annual number of responses multiplied by the reporting burden per response.)

All responses to this notice will be summarized and included in the request for OMB approval. All comments will also become a matter of public record.

Done in Washington, DC, this 12th day of September 2014.
Kevin Shea,
Administrator, Animal and Plant Health Inspection Service.

[FR Doc. 2014-22256 Filed 9-17-14; 8:45 am]

BILLING CODE 3410-34-P